DEPARTMENT OF LABOR

Employment and Training Administration

[TA-W-58,637]

Carolina Mills, Inc.; Plant No. 9; Valdese, NC; Notice of Revised Determination on Reconsideration

By letter dated March 28, 2006, a company official requested administrative reconsideration regarding the Department's Negative Determination Regarding Eligibility to Apply for Worker Adjustment Assistance, applicable to workers of the subject firm. The Notice of Affirmative Determination Regarding Application for Reconsideration was issued on April 21, 2006, and was published in the Federal Register on May 5, 2006 (71 FR 26565).

During the reconsideration investigation, the Department confirmed that the subject firm was a supplier to a company certified for Trade Adjustment Assistance and that the loss of the business by that company contributed importantly to the workers' separations at the subject firm. This customer was one of the subject firm's major declining customers and was certified based on a shift of production to Honduras.

In accordance with Section 246 the Trade Act of 1974 (26 U.S.C. 2813), as amended, the Department of Labor herein presents the results of its investigation regarding certification of eligibility to apply for Alternative Trade Adjustment Assistance (ATAA) for older workers.

In order for the Department to issue a certification of eligibility to apply for ATAA, the group eligibility requirements of Section 246 of the Trade Act must be met. The Department has determined in this case that the requirements of Section 246 have been met. A significant number of workers at the firm are age 50 or over and possess skills that are not easily transferable. Competitive conditions within the industry are adverse.

Conclusion

After careful review of the information obtained in the reconsideration investigation, I determine that workers of the subject firm qualify as adversely affected secondary workers under Section 222 of the Trade Act of 1974, as amended. In accordance with the provisions of the Act, I make the following certification:

All workers of Carolina Mills, Inc., Plant No. 9, Valdese, North Carolina, who became totally or partially separated from employment on or after January 17, 2005 through two years from the date of this certification, are eligible to apply for adjustment assistance under Section 223 of the Trade Act of 1974, and are eligible to apply for alternative trade adjustment assistance under Section 246 of the Trade Act of 1974.

Signed in Washington, DC, this 5th day of July 2006.
Elliott S. Kushner,
Certifying Officer, Division of Trade Adjustment Assistance.

[FR Doc. E6-11216 Filed 7-14-06; 8:45 am]

BILLING CODE 4510-30-P